FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 020890N.

Name: Aegis International, Inc.

Address: 300 Sunset Rd., Ste. 301, Burlington, NJ 08016.

Date Revoked: May 6, 2009.

Reason: Failed to maintain a valid bond.

License Number: 020743N.

Name: ASW America LLC.

Address: 5301 W. Cypress St., Ste. 102, Tampa, FL 33607.

Date Revoked: May 14, 2009.

Reason: Failed to maintain a valid bond.

License Number: 017712N.

Name: Awell Logistics Group, Inc.

Address: 655 John Muir Dr., Apt. E421, San Francisco, CA 94132.

Date Revoked: May 6, 2009.

Reason: Failed to maintain a valid bond.

License Number: 020468N.

Name: Barconsa S.A. Inc.

Address: 2944 N.W. 72nd Ave. Miami, FL 33122.

Date Revoked: May 1, 2009.

Reason: Failed to maintain a valid bond.

License Number: 017470NF.

Name: CTX Expres, Inc.

Address: 2450 W. Main St., #202, Alhambra, CA 91801.

Date Revoked: April 30, 2009.

Reason: Surrendered license voluntarily.

License Number: 020068NF.

Name: Ice Express LLC. dba Icexpress.

Address: 120 Nassau Ave., Inwood, NY 11096.

Date Revoked: May 1, 2009.

Reason: Failed to maintain valid bonds.

License Number: 020687NF.

Name: MP Transmec USA LLC dba TS Lines.

Address: 770 Foster Ave., Bensenville, IL 60106.

Date Revoked: May 8, 2009.

Reason: Failed to maintain valid bonds.

License Number: 001593N.

Name: Robertson Forwarding Co., Inc. dba RFC Consolidators.

Address: 4469 NW 97th Ave., Miami, FL 33178.

Date Revoked: May 10, 2009.

Reason: Failed to maintain a valid bond.

License Number: 013172F.

Name: Yung Hoon Kim dba Conex International.

Address: 20695 South Western Ave., Ste. 136, Torrance, CA 90501.

Date Revoked: May 6, 2009.

Reason: Failed to maintain a valid bond.

Sandra L. Kusumoto,
Director, Bureau of Certification and Licensing.

[FR Doc. E9-11757 Filed 5-19-09; 8:45 am]

BILLING CODE 6730-01-P